DEPARTMENT OF COMMERCE

Foreign-Trade Zones Board

[Order No. 2070]

Reorganization of Foreign-Trade Zone 29 Under Alternative Site Framework; Louisville, Kentucky

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Louisville & Jefferson County Riverport Authority, grantee of Foreign-Trade Zone 29, submitted an application to the Board (FTZ Docket B-23-2018, docketed April 11, 2018, amended June 15, 2018) for authority to reorganize under the ASF with a service area of Anderson, Breckinridge, Bullitt, Butler, Carroll, Crittenden, Daviess, Franklin, Hancock, Henderson, Henry, Hopkins, Jefferson, McLean, Meade, Muhlenberg, Nelson, Ohio, Oldham, Shelby, Spencer, Trimble, Union, Webster, and Woodford Counties, in and adjacent to the Louisville, Kentucky and Evansville, Indiana Customs and Border Protection ports of entry, FTZ 29's existing Sites 1, 4, 7, 9, 11 and 15 would be categorized as magnet sites, and existing Sites 5, 6, 8, 13 and 14 as usage-driven sites;

Whereas, notice inviting public comment was given in the Federal Register (83 FR 17142-17143, April 18, 2018) and the application has been processed pursuant to the FTZ Act and the Board's regulations; and,

Whereas, the Board adopts the findings and recommendations of the examiner's report, and finds that the requirements of the FTZ Act and the Board's regulations are satisfied;

Now, therefore, the Board hereby orders:

The application to reorganize FTZ 29 under the ASF is approved, subject to the FTZ Act and the Board's regulations, including Section 400.13, to the Board's standard 2,000-acre activation limit for the zone, to an ASF sunset provision for magnet sites that would terminate authority for Sites 4, 7, 9, 11 and 15 if not activated within five years from the month of approval, and to an ASF sunset provision for usage-driven sites that would terminate authority for Sites 5, 6, 8, 13 and 14 if no foreign-status merchandise is admitted for a bona fide customs purpose within three years from the month of approval.

Dated: October 25, 2018.
Gary Taverman,
Deputy Assistant Secretary for Antidumping and Countervailing Duty Operations, performing the non-exclusive functions and duties of the Assistant Secretary for Enforcement and Compliance Alternate Chairman, Foreign-Trade Zones Board.

[FR Doc. 2018-23795 Filed 10-30-18; 8:45 am]

BILLING CODE 3510-DS-P